DEPARTMENT OF COMMERCE

International Trade Administration

[A-823-816]

Carbon and Alloy Steel Wire Rod From Ukraine: Rescission of Antidumping Duty Administrative Review; 2024-2025

AGENCY: Enforcement and Compliance, International Trade Administration, Department of Commerce.

SUMMARY: The U.S. Department of Commerce (Commerce) is rescinding the administrative review of the antidumping duty (AD) order on carbon and alloy steel wire rod (steel wire rod) from Ukraine, covering the period of review (POR) March 1, 2024, though February 28, 2025.

DATES: Applicable February 11, 2026.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On March 14, 2018, Commerce published in the Federal Register the AD order on steel wire rod from Ukraine.¹ On March 4, 2025, Commerce published in the Federal Register a notice of opportunity to request an administrative review of the Order for the POR.² On March 31, 2025, Commercial Metals Company and Nucor Corporation (collectively, the petitioners) submitted a timely request that Commerce conduct an administrative review.³

¹ See Carbon and Alloy Steel Wire Rod from the Republic of South Africa and Ukraine: Antidumping Duty Orders, 83 FR 11175 (March 14, 2018) (Order).

² See Antidumping and Countervailing Duty Order, Finding or Suspended Investigation; Opportunity to Request Administrative Review and Join Annual Inquiry Service List, 90 FR 11155 (March 4, 2025).

³ See Petitioner's Letter, “Request for Administrative Review,” dated March 31, 2025.

On April 28, 2025, Commerce published in the Federal Register a notice of initiation of an administrative review with respect to imports of steel wire rod from Ukraine in accordance with section 751(a) of the Tariff Act of 1930, as amended (the Act).⁴ On June 5, 2025, Commerce placed on the record U.S. Customs and Border Protection (CBP) entry data for the companies subject to the review, showing no reviewable POR entries, and invited interested parties to comment.⁵ No party filed comments with respect to the CBP data.

⁴ See Initiation of Antidumping and Countervailing Duty Administrative Reviews, 90 FR 17568, 17572 (April 28, 2025).

⁵ See Memorandum, “Release of Customs and Border Protection Data,” dated June 5, 2025.

On July 8, 2025, Commerce issued a notice of intent to rescind the 2024-2025 administrative review and invited interested parties to comment.⁶ No party filed comments with respect to the Notice of Intent to Rescind.

⁶ See Memorandum, “Notice of Intent to Rescind Review,” dated July 8, 2025 (Notice of Intent to Rescind).

Due to a lapse in appropriations and federal government shutdown, on November 14, 2025, Commerce tolled all deadlines in administrative proceedings by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ Accordingly the deadline for the preliminary results of this review is now February 9, 2026.

⁷ See Memorandum, “Deadlines Affected by the Shutdown of the Federal Government,” dated November 14, 2025.

⁸ See Memorandum, “Tolling of all Case Deadlines,” dated November 24, 2025.

Rescission of Review

Pursuant to 19 CFR 351.213(d)(3), it is Commerce's practice to rescind an administrative review of an AD order when there are no reviewable entries of subject merchandise during the POR for which liquidation is suspended.⁹ Normally, upon completion of an administrative review, the suspended entries are liquidated at the AD assessment rate for the review period.¹⁰ Therefore, for an administrative review to be conducted, there must be a reviewable, suspended entry that Commerce can instruct CBP to liquidate at the calculated AD assessment rate for the review period.¹¹

⁹ See, e.g., Certain Carbon and Alloy Steel Cut-to-Length Plate from the Federal Republic of Germany: Rescission of Antidumping Administrative Review; 2020-2021, 88 FR 4154 (January 24, 2023).

¹⁰ See 19 CFR 351.212(b)(1).

¹¹ See 19 CFR 351.213(d)(3).

As noted above, there were no entries of subject merchandise for the companies subject to this review during the POR. Accordingly, in the absence of suspended entries of subject merchandise during the POR, we are hereby rescinding this administrative review, in its entirety, in accordance with 19 CFR 351.213(d)(3).

Cash Deposit Requirements

As Commerce has proceeded to a final rescission of this administrative review, no cash deposit rates will change. Accordingly, the current cash deposit requirements shall remain in effect until further notice.

Assessment Rates

Commerce will instruct CBP to assess antidumping duties on all appropriate entries. Antidumping duties shall be assessed at rates equal to the cash deposit of estimated antidumping duties required at the time of entry, or withdrawal from warehouse, for consumption, in the United States, in accordance with 19 CFR 351.212(c)(1)(i). Commerce intends to issue assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: February 9, 2026.
Scot Fullerton,
Acting Deputy Assistant Secretary for Antidumping and Countervailing Duty Operations.

[FR Doc. 2026-02780 Filed 2-10-26; 8:45 am]

BILLING CODE 3510-DS-P